DEPARTMENT OF TRANSPORTATION

Federal Aviation Administration

14 CFR Part 39

[Docket No. FAA-2018-0994; Product Identifier 2017-SW-002-AD; Amendment 39-21216; AD 2020-17-11]

RIN 2120-AA64

Airworthiness Directives; Airbus Helicopters

AGENCY: Federal Aviation Administration (FAA), DOT.

ACTION: Final rule.

SUMMARY: The FAA is superseding Airworthiness Directive (AD) 2017-14-05 for Airbus Helicopters Model SA330J helicopters. AD 2017-14-05 required replacing certain right-hand (RH) hydraulic pumps and was prompted by reports of broken screws that attach the cover of the hydraulic pump. This new AD requires replacing certain left-hand (LH) and RH hydraulic pumps. This AD was prompted by reports of broken bolts that attach the cover of the hydraulic pump. The actions of this AD are intended to address an unsafe condition on these products.

DATES: This AD is effective September 22, 2020.

ADDRESSES: For service information identified in this final rule, contact Airbus Helicopters, 2701 N Forum Drive, Grand Prairie, TX 75052; telephone 972-641-0000 or 800-232-0323; fax 972-641-3775; or at https://www.airbus.com/helicopters/services/technical-support.html. You may view this referenced service information at the FAA, Office of the Regional Counsel, Southwest Region, 10101 Hillwood Pkwy., Room 6N-321, Fort Worth, TX 76177.

Examining the AD Docket

You may examine the AD docket on the internet at https://www.regulations.gov in Docket No. FAA-2018-0994; or in person at Docket Operations between 9 a.m. and 5 p.m., Monday through Friday, except Federal holidays. The AD docket contains this AD, the European Aviation Safety Agency (now European Union Aviation Safety Agency) (EASA) AD, any comments received, and other information. The street address for Docket Operations is U.S. Department of Transportation, Docket Operations, M-30, West Building Ground Floor, Room W12-140, 1200 New Jersey Avenue SE, Washington, DC 20590.

FOR FURTHER INFORMATION CONTACT: Matt Fuller, AD Program Manager, Continued Operational Safety Branch, Airworthiness Products Section, General Aviation and Rotorcraft Unit, FAA, 10101 Hillwood Pkwy., Fort Worth, TX 76177; telephone 817-222-5110; email matthew.fuller@faa.gov.

SUPPLEMENTARY INFORMATION:

Discussion

The FAA issued a supplemental notice of proposed rulemaking (SNPRM) to amend 14 CFR part 39 to supersede AD 2017-14-05, Amendment 39-18949 (82 FR 31899, July 11, 2017) (“AD 2017-14-05”). AD 2017-14-05 applied to Airbus Helicopters Model SA330J helicopters with certain serial-numbered LH and RH hydraulic pumps part number (P/N) FR65WEO2005-175A installed. The SNPRM published in the Federal Register on May 21, 2020 (85 FR 30891). The FAA preceded the SNPRM with a notice of proposed rulemaking (NPRM) that published in the Federal Register on October 21, 2019 (84 FR 56152). The NPRM proposed to continue to require replacing the RH hydraulic pump within 15 hours time-in-service (TIS) and also proposed to require replacing the LH hydraulic pump within 110 hours TIS. The NPRM also proposed to continue to prohibit the installation of an affected hydraulic pump on any helicopter. The SNPRM proposed to expand the applicability to include helicopters that have an affected hydraulic pump on one or both of the LH and RH sides and change the proposed requirements to address helicopters with an affected hydraulic pump installed on only one side. The SNPRM also corrected the nomenclature of “screw” to “bolt.”

The NPRM was prompted by EASA AD No. 2016-0264-E, dated December 22, 2016, issued by EASA, which is the Technical Agent for the Member States of the European Union, to correct an unsafe condition for Airbus Helicopters Model SA 330 J helicopters. EASA advises of reports of broken screws that attach the cover of the hydraulic pump. A subsequent investigation revealed that hydrogen was introduced into a batch of screws delivered between July 1, 2015, and November 1, 2016, causing the screws to become brittle and lack sufficient strength. These screws were installed in a batch of hydraulic pumps, P/N FR65WEO2005-175A, identified by certain serial numbers (S/Ns). As a result, the EASA AD requires replacing the hydraulic pumps.

Comments

The FAA gave the public the opportunity to participate in developing this AD, but did not receive any comments on the SNPRM or on the determination of the cost to the public.

FAA's Determination

These helicopters have been approved by EASA and are approved for operation in the United States. Pursuant to the FAA's bilateral agreement with the European Union, EASA has notified the FAA of the unsafe condition described in its AD. The FAA is issuing this AD after evaluating all information provided by EASA and determining the unsafe condition exists and is likely to exist or develop on other helicopters of the same type design.

Related Service Information

The FAA reviewed Airbus Helicopters Emergency Alert Service Bulletin No. SA330-29.12, Revision 0, dated December 22, 2016, which specifies removing Nexter Mechanics hydraulic pumps P/N FR65WEO2005-175A with certain S/Ns. If both the RH and LH hydraulic pumps have an affected P/N and S/N, the service information specifies replacing the RH hydraulic pump before further flight and the LH hydraulic pump within 110 flying hours or 6 months. If only one hydraulic pump has an affected P/N and S/N, the service information specifies replacing it within 110 flying hours or 6 months. The service information also specifies that, for 6 months after receipt of the service information, an affected hydraulic pump must be “returned to conformity” by complying with Nexter Mechanics Alert Service Bulletin No. NM/INGE/16-140, Revision 0, dated December 22, 2016, before installation.

Costs of Compliance

The FAA estimates that this AD affects 24 helicopters of U.S. Registry. Labor costs are estimated at $85 per work-hour. Based on these numbers, the FAA estimates that operators may incur the following costs in order to comply with this AD.

Replacing a hydraulic pump takes about 2 work-hours and parts cost about $2,500 for an estimated cost of $2,670 per hydraulic pump.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2017-14-05, Amendment 39-18949 (82 FR 31899, July 11, 2017); and

b. Adding the following new AD:

2020-17-11 Airbus Helicopters: Amendment 39-21216; Docket No. FAA-2018-0994; Product Identifier 2017-SW-002-AD.

(a) Applicability

This AD applies to Airbus Helicopters Model SA330J helicopters, certificated in any category, with a left-hand (LH) or a right-hand (RH) hydraulic pump part number FR65WEO2005-175A with a serial number 4108, 4141, 4177, 4227, 4241, 4284, 4377, 4422, 4570, 4573, 4574, 4641, 4649, 4668, 4766, 4802, 4821, 4831, 4837, 4888, 4896, 4946, 4985, 5023, 5071, 5304, 5366, 5376, 5409, 5442, 5486, 5599, 5630, 94075/01, or 94048/01 installed.

(b) Unsafe Condition

This AD defines the unsafe condition as failure of a bolt attaching the hydraulic pump cover. This condition could result in loss of fluid from the hydraulic pump, resulting in loss of the hydraulic system and subsequent loss of helicopter control.

(c) Affected ADs

This AD replaces AD 2017-14-05, Amendment 39-18949 (82 FR 31899, July 11, 2017) (“AD 2017-14-05”).

(d) Effective Date

This AD becomes effective September 22, 2020.

(e) Compliance

You are responsible for performing each action required by this AD within the specified compliance time unless it has already been accomplished prior to that time.

(f) Required Actions

(1) For helicopters with both a LH and RH hydraulic pump that is listed in paragraph (a) of this AD installed:

(i) Within 15 hours time-in-service (TIS) from July 26, 2017 (the effective date of AD 2017-14-05), replace the RH hydraulic pump with an airworthy hydraulic pump that is not listed in paragraph (a) of this AD.

(ii) Within 110 hours TIS from the effective date of this AD, replace the LH hydraulic pump with an airworthy hydraulic pump that is not listed in paragraph (a) of this AD.

(2) For helicopters with either a LH or RH hydraulic pump that is listed in paragraph (a) of this AD installed, within 110 hours TIS from the effective date of this AD, replace the hydraulic pump with an airworthy hydraulic pump that is not listed in paragraph (a) of this AD.

(3) After July 26, 2017 (the effective date of AD 2017-14-05), do not install on any helicopter a hydraulic pump that is listed in paragraph (a) of this AD.

(g) Special Flight Permits

Special flight permits are prohibited.

(h) Alternative Methods of Compliance (AMOCs)

(1) The Manager, Rotorcraft Standards Branch, FAA, may approve AMOCs for this AD. Send your proposal to: Matt Fuller, AD Program Manager, Continued Operational Safety Branch, Airworthiness Products Section, General Aviation and Rotorcraft Unit, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(i) Additional Information

(1) Airbus Helicopters Emergency Alert Service Bulletin No. SA330-29.12, Revision 0, dated December 22, 2016, and Nexter Mechanics Alert Service Bulletin No. NM/INGE/16-140, Revision 0, dated December 22, 2016, which are not incorporated by reference, contain additional information about the subject of this AD. For service information identified in this AD, contact Airbus Helicopters, 2701 N Forum Drive, Grand Prairie, TX 75052; telephone 972-641-0000 or 800-232-0323; fax 972-641-3775; or at https://www.airbus.com/helicopters/services/technical-support.html. You may view a copy of the service information at the FAA, Office of the Regional Counsel, Southwest Region, 10101 Hillwood Pkwy., Room 6N-321, Fort Worth, TX 76177.

(2) The subject of this AD is addressed in European Aviation Safety Agency (EASA) (now European Union Aviation Safety Agency) AD No. 2016-0264-E, dated December 22, 2016. You may view the EASA AD on the internet at https://www.regulations.gov in Docket No. FAA-2018-0994.

(j) Subject

Joint Aircraft Service Component (JASC) Code: 2913, Hydraulic Pump (Electric/Engine) Main.

Issued on August 12, 2020.
Lance T. Gant,
Director, Compliance & Airworthiness Division, Aircraft Certification Service.

[FR Doc. 2020-17954 Filed 8-17-20; 8:45 am]

BILLING CODE 4910-13-P